NUCLEAR REGULATORY COMMISSION

10 CFR Part 72

[NRC-2012-0052]

RIN 3150-AJ12

List of Approved Spent Fuel Storage Casks: HI-STORM 100 Cask System; Amendment No. 9

AGENCY: Nuclear Regulatory Commission.

ACTION: Direct final rule; correction and delay of effective date.

SUMMARY: The U.S. Nuclear Regulatory Commission (NRC) is correcting a direct final rule that appeared in the Federal Register on December 6, 2013, and is delaying the effective date. The direct final rule amends the NRC's spent fuel storage regulations by revising the Holtec International HI-STORM 100 Cask System listing within the “List of Approved Spent Fuel Storage Casks” to include Amendment No. 9 to Certificate of Compliance (CoC) No. 1014. This action is necessary to correct the NRC's Agencywide Documents Access and Management System (ADAMS) accession numbers for the CoC, the safety evaluation report (SER), and the ADAMS document package containing the CoC, SER, and the Technical Specifications (TSs) for this amendment.

DATES: The effective date of the direct final rule published December 6, 2013, at 78 FR 73379, is delayed from February 19, 2014, to March 11, 2014.

ADDRESSES: Please refer to Docket ID NRC-2012-0052 when contacting the NRC about the availability of information for this action. You may access publicly-available information related to this action by any of the following methods:

• Federal Rulemaking Web site: Go to http://www.regulations.gov and search for Docket ID NRC-2012-0052. Address questions about NRC dockets to Carol Gallagher, telephone: 301-287-3422, email: Carol.Gallagher@nrc.gov. For technical questions, contact the individual listed in the FOR FURTHER INFORMATION CONTACT section of this document.

• NRC's Agencywide Documents Access and Management System (ADAMS): You may access publicly available documents online in the NRC Library at: http://www.nrc.gov/reading-rm/adams.html. To begin the search, select “ADAMS Public Documents” and then select “Begin Web-based ADAMS Search.” For problems with ADAMS, please contact the NRC's Public Document Room (PDR) reference staff at: 1-800-397-4209, 301-415-4737, or by email to: pdr.resource@nrc.gov.

• NRC's PDR: You may examine and purchase copies of public documents at the NRC's PDR, Room O-1F21, One White Flint North, 11555 Rockville Pike, Rockville, Maryland 20852.

FOR FURTHER INFORMATION CONTACT: Naiem S. Tanious, Office of Federal and State Materials and Environmental Management Programs, U.S. Nuclear Regulatory Commission, Washington, DC 20555-0001, telephone: 301-415-6103, email: Naiem.Tanious@nrc.gov.

SUPPLEMENTARY INFORMATION:

Corrections

The NRC is correcting the ADAMS accession numbers for the CoC, the SER, and the ADAMS document package containing the CoC, SER, and the TSs for this amendment because the documents referenced by accession numbers in the direct final rule the NRC published on December 6, 2013 (78 FR 73379; Fr. Doc. 2013-29162), do not clearly display the proposed changes to the documents.

In Fr. Doc. 2013-29162, on page 73379, in the second column, second full paragraph, in the last sentence, “ML120530246” is corrected to read “ML13351A224.” On page 73380, in the second column, first full sentence, “ML120530246” is corrected to read “ML13351A224.” On page 73380, in the second column, second full sentence, “ML120530271” is corrected to read “ML13351A205.” On page 73380, in the second column, first full paragraph, in the first full sentence, “ML120530329” is corrected to read “ML13351A203.” On page 73381, in the second column, first full paragraph, in the last sentence, “ML120530329” is corrected to read “ML13351A203.”

Delay of Effective Date

The NRC is delaying the effective date of the direct final rule from February 19, 2014, to March 11, 2014. The NRC published a companion proposed rule to this direct final rule on December 6, 2013 (78 FR 73456). In the Proposed Rules section of this issue of the Federal Register, the NRC is publishing a document to correct and extend the public comment period of the proposed rule. Specifically, ADAMS accession numbers for the CoC, and the ADAMS document package containing the CoC, SER, and the TSs for this amendment will be corrected and the public comment period will be extended from January 6, 2014, to January 27, 2014, in order to provide the public the opportunity to review all information related to the rulemaking. As a result of the extended public comment period, the effective date of the direct final rule was delayed.

Dated at Rockville, Maryland, this 19th day of December, 2013.
For the Nuclear Regulatory Commission.
Leslie Terry,
Acting Chief, Rules, Announcements, and Directives Branch, Division of Administrative Services, Office of Administration.

[FR Doc. 2013-30887 Filed 12-24-13; 8:45 am]

BILLING CODE 7590-01-P